DEPARTMENT OF HEALTH AND HUMAN SERVICES

Centers for Disease Control and Prevention

Intelligence Reform and Terrorism Prevention Act of 2004 Delegation of Authority

Notice is hereby given that I have delegated to the Director, Centers for Disease Control and Prevention (CDC), with authority to redelegate, the authorities vested in the Secretary of Health and Human Services, under Section 7211, Minimum Standards for Birth Certificates (5 U.S.C. 301 note), of the Intelligence Reform and Terrorism Prevention Act of 2004, Public Law 108-458, as amended hereafter.

This delegation excludes the authority to submit reports to the Congress, but should be exercised under the Department's existing delegation of authority and policy on regulations.

This delegation is effective upon signature. In addition, I hereby affirm and ratify any actions taken by you or your subordinates which involved the exercise of the authorities delegated herein prior to the effective day of the delegation.

Dated: December 15, 2005.
Michael O. Leavitt,
Secretary.

[FR Doc. 05-24312 Filed 12-21-05; 8:45 am]

BILLING CODE 4160-18-M